DEPARTMENT OF ENERGY

Federal Energy Regulatory Commission

[Project No. 3409-032]

Boyne USA, Inc.; Notice of Meeting

a. Project Name and Number: Boyne River Hydroelectric Project No. 3409-032.

b. Applicant: Boyne USA, Inc.

c. Date and Time of Meeting: Thursday, June 5, 2025 from 10:00 a.m. to 11:00 a.m. Eastern Time.

d. FERC Contact: Michael Davis at (202) 502-8339 or michael.davis@ferc.gov.

e. Purpose of Meeting: Commission staff will hold a meeting with representatives from the Little Traverse Bay Bands of Odawa Indians to discuss fisheries, erosion, and water quality in regards to the Boyne River Hydroelectric Project relicensing. The meeting will be held virtually via Microsoft Teams.

f. Intervenors in the referenced proceeding may attend the meeting as observers; however, participation will be limited to representatives from the Little Traverse Bay Bands of Odawa Indians and Commission staff. If meeting attendees decide to disclose information about a specific location which could create a risk or harm to an archaeological site or Native American cultural resource, attendees other than Little Traverse Bay Bands of Odawa Indians and Commission staff will be excused for that portion of the meeting.

g. A summary of the meeting will be placed in the public record of this proceeding. As appropriate, the meeting summary will include both a public, redacted version that excludes any information about the specific location of the archeological site or Native American cultural resource and an unredacted privileged version. Intervenors planning to attend the meeting should notify Michael Davis at (202) 502-8339 or michael.davis@ferc.gov by Tuesday, June 3, 2025 to RSVP and to receive specific instructions for logging in to the meeting.

Dated: May 21, 2025.
Debbie-Anne A. Reese,
Secretary.

[FR Doc. 2025-09602 Filed 5-28-25; 8:45 am]

BILLING CODE 6717-01-P